DEPARTMENT OF JUSTICE

Notice of Lodging Proposed Consent Decree

In accordance with Departmental Policy, 28 CFR 50.7, notice is hereby given that a proposed consent decree in United States v. Johnson, Civil Action No. 00CV11014 (D. Mass.), was lodged with the United States District Court for the District of Massachusetts on May 23, 2000. This proposed Consent Decree concerns a complaint filed by the United States against William Johnson and Virginia Riley, pursuant to section 301(a) of the Clean Water Act, 33 U.S.C. 1311(a), and imposes civil penalties against the Defendants for discharging dredged or fill material and/or controlling and directing the discharge of dredged or fill material into waters of the United States at portions of an approximately 107 acre parcel of land located at 136 Holly Lane in Bridgewater, Massachusetts, where a cranberry farm now exists.

The proposed Consent Decree prohibits the discharge of pollutants into the waters of the United States and requires the payment of civil penalties in the amount of $500.00 to be paid by Defendant Virginia A. Riley and $1000.00 to be paid by Defendant William Johnson.

The Department of Justice will accept written comments relating to this proposed Consent Decree for thirty (30) days from the date of publication of this notice. Please address comments to Jon M. Lipshultz, Environment and Natural Resources Division, Environmental Defense Section, U.S. Department of Justice, P.O. Box 23986, Washington, D.C. 20026-3986 and refer to United States v. Johnson, DJ # 90-5-1-1-05400/1.

The proposed Consent Decree may be examined at the Clerk's Office, United States District Court for the District of Massachusetts, 2300 United States Courthouse, One Courthouse Way, Boston, MA 02210-3002.

Letitia J. Grishaw,
Chief, Environmental Defense Section, Environment & Natural Resources Division.

[FR Doc. 00-14618 Filed 6-8-00; 8:45 am]

BILLING CODE 4410-15-M